DEPARTMENT OF COMMERCE

National Oceanic and Atmospheric Administration

RIN 0648-XA091

New England Fishery Management Council; Public Hearings

AGENCY: National Marine Fisheries Service (NMFS), National Oceanic and Atmospheric Administration (NOAA), Commerce.

ACTION: Monkfish Fishery Management Plan Amendment 6; Reschedule of Scoping Hearing.

SUMMARY: The New England Fishery Management Council (Council) has rescheduled a public hearing to solicit comments on proposals to be included in the Draft Amendment 6 to the Monkfish Fishery Management Plan (FMP).

DATES: Written comments must be received on or before 5 p.m. EST, February 15, 2011. The public hearing will be held on January 19, 2011. For specific dates and times, see SUPPLEMENTARY INFORMATION.

ADDRESSES: The Council will take comments at a public meeting in Portland, ME. For specific location, see SUPPLEMENTARY INFORMATION. Written comments should be sent to Patricia Kurkul, Regional Administrator, National Marine Fisheries Service, 55 Great Republic Drive, Gloucester, MA 01930. Comments may also be sent via fax to (978) 281-9135 or submitted via e-mail to monkfisha6@noaa.gov with “Scoping Comments on Monkfish Amendment 6” in the subject line. Requests for copies of the scoping document and other information should be directed to Paul J. Howard, Executive Director, New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION: The U.S. monkfish fishery is jointly managed by the NEFMC and the Mid-Atlantic Fishery Management Council (MAFMC), with the NEFMC having the administrative lead. On November 30, 2010, the NEFMC, in coordination with NMFS, published a Notice of Intent (NOI) to prepare an EIS for Amendment 6 to the Monkfish FMP (75 FR 74005). At that time only one hearing was scheduled to be held on December 15, 2010 at 4:30 p.m. in conjunction with the MAFMC meeting in Virginia Beach, VA. On December 9, 2010, the NEFMC, in coordination with NMFS, published notification of additional public scoping hearings that were scheduled following the publication of the NOI for Amendment 6 (75 CFR 76703). The purpose of this notice is to alert the interested public that the Portland, ME hearing has been rescheduled from its original 1 p.m. start time to 4 p.m. The following schedule provides the information for the rescheduled scoping hearing.

The date, time, location and telephone number of the hearing is as follows:

Wednesday, January 19, 2011 at 4 p.m.—Clarion Hotel, 1230 Congress Street, Portland, ME 04101; telephone: (207) 774-5611.

The scoping document is available on the Monkfish page of the Council's Web site (http://www.nefmc.org) or from the Council office.

Special Accommodations

This hearing is physically accessible to people with physical disabilities. Requests for sign language interpretation or other auxiliary aids should be directed to Paul J. Howard (see ADDRESSES) at least 5 days prior to the meeting date.

Authority: 16 U.S.C. 1801 et seq.

Dated: December 13, 2010.
Tracey L. Thompson,
Acting Director, Office of Sustainable Fisheries, National Marine Fisheries Service.

[FR Doc. 2010-31608 Filed 12-15-10; 8:45 am]

BILLING CODE 3510-22-P